DEPARTMENT OF TRANSPORTATION

Federal Aviation Administration

14 CFR Part 97

[Docket No. 31226; Amdt. No. 3829]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 26, 2018. The compliance date for each SIAP, associated Takeoff Minimums, and ODP is specified in the amendatory provisions.

The incorporation by reference of certain publications listed in the regulations is approved by the Director of the Federal Register as of December 26, 2018.

ADDRESSES: Availability of matters incorporated by reference in the amendment is as follows:

For Examination

1. U.S. Department of Transportation, Docket Ops-M30, 1200 New Jersey Avenue SE, West Bldg., Ground Floor, Washington, DC, 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73125. Telephone: (405) 954-4164.

SUPPLEMENTARY INFORMATION: This rule amends Title 14 of the Code of Federal Regulations, part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866;(2) is not a “significant rule” under DOT Regulatory Policies and Procedures (44 FR 11034; February 26,1979) ; and (3)does not warrant preparation of a regulatory evaluation as the anticipated impact is so minimal. For the same reason, the FAA certifies that this amendment will not have a significant economic impact on a substantial number of small entities under the criteria of the Regulatory Flexibility Act.

List of Subjects in 14 CFR Part 97:

Air Traffic Control, Airports, Incorporation by reference, Navigation (Air).

Issued in Washington, DC, on November 30, 2018.
Rick Domingo,
Executive Director, Flight Standards Service.

Adoption of the Amendment

Accordingly, pursuant to the authority delegated to me,

Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

* * * Effective 3 January 2019

La Verne, CA, Brackett Field, ILS RWY 26L, Amdt 4

La Verne, CA, Brackett Field, LOC RWY 26L, Amdt 1

La Verne, CA, Brackett Field, RNAV (GPS) RWY 26L, Amdt 1

La Verne, CA, Brackett Field, Takeoff Minimums and Obstacle DP, Amdt 6

Washington, DC, Manassas Rgnl/Harry P Davis Field, RNAV (GPS) RWY 34R, Amdt 3

Shenandoah, IA, Shenandoah Muni, Takeoff Minimums and Obstacle DP, Amdt 2

Chicago, IL, Chicago O'Hare Intl, ILS OR LOC RWY 27L, ILS RWY 27L SA CAT I, ILS RWY 27L CAT II, ILS RWY 27L CAT III, Amdt 31A

Chicago, IL, Chicago O'Hare Intl, ILS OR LOC RWY 28C, ILS RWY 28C SA CAT I, ILS RWY 28C CAT II, ILS RWY 28C CAT III, Amdt 2A

Chicago, IL, Chicago O'Hare Intl, ILS OR LOC RWY 28L, ILS RWY 28L SA CAT I, ILS RWY 28L CAT II, ILS RWY 28L CAT III, Orig-B

Chicago, IL, Chicago O'Hare Intl, ILS OR LOC RWY 28R, ILS RWY 28R SA CAT I, ILS RWY 28R CAT II, ILS RWY 28R CAT III, Amdt 18A

Chicago, IL, Chicago O'Hare Intl, ILS PRM RWY 28C (CLOSE PARALLEL), ILS PRM RWY 28C (CLOSE PARALLEL) SA CAT I, ILS PRM RWY 28C (CLOSE PARALLEL) CAT II, ILS PRM RWY 28C (CLOSE PARALLEL) CAT III, Amdt 1A

Chicago, IL, Chicago O'Hare Intl, Takeoff Minimums and Obstacle DP, Amdt 21

North Adams, MA, Harriman-And-West, RNAV (GPS)-B, Orig

Cheboygan, MI, Cheboygan County, RNAV (GPS) RWY 10, Amdt 3B

Detroit, MI, Detroit Metropolitan Wayne County, RNAV (GPS) Z RWY 4L, Orig

Detroit, MI, Detroit Metropolitan Wayne County, RNAV (GPS) Z RWY 22R, Orig

Lambertville, MI, Toledo Suburban, RNAV (GPS)-A, Orig-A

Grand Marais, MN, Grand Marais/Cook County, NDB RWY 28, Amdt 1A

Crystal Springs, MS, Copiah County, RNAV (GPS) RWY 18, Orig

Crystal Springs, MS, Copiah County, RNAV (GPS) RWY 36, Orig

Crystal Springs, MS, Copiah County, Takeoff Minimums and Obstacle DP, Orig

Fairmont, NE, Fairmont State Airfield, NDB RWY 17, Amdt 2

Fairmont, NE, Fairmont State Airfield, NDB RWY 35, Amdt 3

Fairmont, NE, Fairmont State Airfield, RNAV (GPS) RWY 17, Amdt 1A

Fairmont, NE, Fairmont State Airfield, RNAV (GPS) RWY 35, Amdt 1A

Fairmont, NE, Fairmont State Airfield, Takeoff Minimums and Obstacle DP, Amdt 1

Wayne, NE, Wayne Muni/Stan Morris Fld, RNAV (GPS) RWY 36, Amdt 2B

Wayne, NE, Wayne Muni/Stan Morris Fld, Takeoff Minimums and Obstacle DP, Amdt 5

Reno, NV, Reno/Tahoe Intl, TACAN-F, Orig

Montgomery, NY, Orange County, ILS OR LOC RWY 3, Amdt 3D, CANCELED

Montgomery, NY, Orange County, ILS OR LOC RWY 4, Orig

Montgomery, NY, Orange County, RNAV (GPS) RWY 3, Amdt 1A, CANCELED

Montgomery, NY, Orange County, RNAV (GPS) RWY 4, Orig

Montgomery, NY, Orange County, RNAV (GPS) 8, Amdt 1B

Montgomery, NY, Orange County, RNAV (GPS) RWY 21, Amdt 1A, CANCELED

Montgomery, NY, Orange County, RNAV (GPS) RWY 22, Orig

Montgomery, NY, Orange County, RNAV (GPS) RWY 26, Amdt 1C

Montgomery, NY, Orange County, VOR RWY 8, Amdt 9A

Stigler, OK, Stigler Rgnl, RNAV (GPS) RWY 35, Amdt 1B

Wagoner, OK, Hefner-Easley, Takeoff Minimums and Obstacle DP, Amdt 1

Columbia, SC, Jim Hamilton L B Owens, RNAV (GPS) RWY 31, Amdt 1

Moab, UT, Canyonlands Field, RNAV (GPS) RWY 3, Amdt 1

Moab, UT, Canyonlands Field, Takeoff Minimums and Obstacle DP, Amdt 4

Moab, UT, Canyonlands Field, VOR-A, Amdt 11

Spanish Fork, UT, Spanish Fork Arpt Springville-Woodhouse Field, RNAV GPS-A, Orig

Spanish Fork, UT, Spanish Fork Arpt Springville-Woodhouse Field, RNAV (GPS) Y RWY 12, Orig

Spanish Fork, UT, Spanish Fork Arpt Springville-Woodhouse Field, RNAV (GPS) Z RWY 12, Orig

Spanish Fork, UT, Spanish Fork Arpt Springville-Woodhouse Field, SPANISH FORK ONE,

Graphic DP

Spanish Fork, UT, Spanish Fork Arpt Springville-Woodhouse Field, Takeoff Minimums and Obstacle DP, Orig

Spokane, WA, Spokane Intl, ILS OR LOC RWY 3, ILS RWY 3 SA CAT I, ILS RWY 3 CAT II, ILS RWY 3 CAT III, Amdt 7

Spokane, WA, Spokane Intl, ILS OR LOC RWY 21, ILS RWY 21 SA CAT I, ILS RWY 21 CAT II, ILS RWY 21 CAT III, Amdt 24

Spokane, WA, Spokane Intl, RNAV (GPS) Y RWY 3, Amdt 2D

Spokane, WA, Spokane Intl, RNAV (GPS) Y RWY 8, Amdt 2B

Spokane, WA, Spokane Intl, RNAV (GPS) Y RWY 21, Amdt 2C

Spokane, WA, Spokane Intl, RNAV (GPS) Y RWY 26, Amdt 4B

Spokane, WA, Spokane Intl, RNAV (RNP) Z RWY 3, Amdt 1

Spokane, WA, Spokane Intl, RNAV (RNP) Z RWY 8, Amdt 1

Spokane, WA, Spokane Intl, RNAV (RNP) Z RWY 21, Amdt 1B

Spokane, WA, Spokane Intl, RNAV (RNP) Z RWY 26, Amdt 1B

Spokane, WA, Spokane Intl, Takeoff Minimums and Obstacle DP, Amdt 7

Spokane, WA, Spokane Intl, VOR RWY 3, Amdt 14

RESCINDED: On November 8, 2018 (83 FR 55821), the FAA published an Amendment in Docket No. 31220, Amdt No. 3823, to Part 97 of the Federal Aviation Regulations under section 97.33. The following entry for Brookneal, VA, effective January 3, 2019, is hereby rescinded in its entirety:

Brookneal, VA, Brookneal/Campbell County, RNAV (GPS) RWY 24, Amdt 1B

RESCINDED: On November 20, 2018 (83 FR 58475), the FAA published an Amendment in Docket No. 31222, Amdt No. 3825, to Part 97 of the Federal Aviation Regulations under section 97.33. The following entry for Pittsfield, IL, effective January 3, 2019, is hereby rescinded in its entirety:

Pittsfield, IL, Pittsfield Penstone Muni, RNAV (GPS) RWY 31, Orig-A

[FR Doc. 2018-27569 Filed 12-21-18; 8:45 am]

BILLING CODE 4910-13-P